DEPARTMENT OF TRANSPORTATION

Office of the Secretary

Notice of Applications for Certificates of Public Convenience and Necessity and Foreign Air Carrier Permits Filed Under Subpart B (Formerly Subpart Q) During the Week Ending February 17, 2006

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-1999-6319.

Date Filed: February 15, 2006.

Due Date for Answers, Conforming Applications, or Motion to Modify Scope: March 8, 2006.

Description: Application of Northwest Airlines, Inc. (“Northwest”) requesting an amendment to its experimental certificate of public convenience and necessity for Route 564 (U.S.-Mexico) to incorporate authority for scheduled combination service between: Houston, TX and Queretaro, Mexico; Cincinnati, OH and Cabo San Lucas, Mexico; and Atlanta, GA, on the one hand, and Cozumel, Merida, and Puerto Vallarta, Mexico, on the other hand. Northwest also requests that the Department integrate this authority with all of its existing certificate and exemption authority.

Docket Number: OST-2005-23977.

Date Filed: February 15, 2006.

Due Date for Answers, Conforming Applications, or Motion to Modify Scope: March 8, 2006.

Description: Application of Northwest Airlines, Inc. (“Northwest”) requesting a certificate of public convenience and necessity authorizing Northwest to provide scheduled foreign air transportation of persons, property and mail between points in the U.S. and points in Latin America pursuant to codeshare arrangements with Continental Airlines, Inc. and Delta Air Lines, Inc. Northwest also requests that the Department integrate this authority with all Northwest's existing certificate and exemption authority.

Docket Number: OST-2005-23980.

Date Filed: February 15, 2006.

Due Date for Answers, Conforming Applications, or Motion to Modify Scope: March 8, 2006.

Description: Application of Northwest Airlines, Inc. (“Northwest”) requesting a certificate of public convenience and necessity authorizing Northwest to provide scheduled foreign air transportation of persons, property and mail between Atlanta, GA, on the one hand, and Quito and Guayaquil, Ecuador, on the other hand. Northwest also requests that the Department integrate this authority with all Northwest's existing certificate and exemption authority.

Docket Number: OST-2005-23982.

Date Filed: February 15, 2006.

Due Date for Answers, Conforming Applications, or Motion to Modify Scope: March 8, 2006.

Description: Application of Northwest Airlines, Inc. (“Northwest”) requesting a certificate of public convenience and necessity authorizing Northwest to provide scheduled foreign air transportation of persons, property and mail between Atlanta, GA and Caracas, Venezuela. Northwest also requests that the Department integrate this authority with all Northwest's existing certificate and exemption authority.

Renee V. Wright,
Program Manager, Docket Operations, Federal Register Liaison.

[FR Doc. E6-3336 Filed 3-8-06; 8:45 am]

BILLING CODE 4910-62-P